DEPARTMENT OF COMMERCE

[I.D. 083101D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Vessel Identification Requirements.

Form Number(s): None.

OMB Approval Number: 0648-0350.

Type of Request: Regular submission.

Burden Hours: 4,363.

Number of Respondents: 5,821.

Average Hours Per Response: 45 minutes.

Needs and Uses: Federally-permitted vessels in the Northeast Region of the U.S. must display their vessel identification numbers on three locations (port and starboard of deckhouse or hull, and weather deck) on the vessel at a required size. The requirement is needed to assist the National Marine Fisheries Service and the Coast Guard in enforcing fishery regulations.

Affected Public: Business or other for-profit organizations, individuals.

Frequency: Third party disclosure.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 30, 2001.
Madeleine Clayton,
Departmental Paperwork Clearance Officer, Office of the Chief Information Officer.

[FR Doc. 01-22552 Filed 9-6-01; 8:45 am]

BILLING CODE 3510-22-S